DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Housing Vacancy Survey (HVS).

OMB Control Number: 0607-0179.

Form Number(s): HVS-600, BC-1428RV, CPS-263(L).

Type of Request: Extension of a currently approved collection.

Burden Hours: 4,278.

Number of Respondents: 6,936.

Average Hours Per Response: 3 minutes.

Needs and Uses: The U.S. Census Bureau collects the HVS data for a sample of vacant housing units identified in the monthly Current Population Survey (CPS) sample and provides the only quarterly statistics on rental vacancy rates, and home ownership rates for the United States, the four census regions, inside vs. outside metropolitan areas (MSAs), the 50 States, the District of Columbia, and the 75 largest MSAs. Private and public sector organizations use these rates extensively to gauge and analyze the housing market. In addition, the rental vacancy rate is a component of the index of leading economic indicators published by the Department of Commerce.

Policy analysts, program managers, budget analysts, and Congressional staff use data obtained from the remaining questions that do not deal specifically with the vacancy rate to advise the executive and legislative branches of government with respect to number and characteristics of units available for occupancy and the suitability of housing initiatives. Public and private sector organizations use these data for evaluating the housing market with regard to supply, cost, and affordability at various points in time.

The Census Bureau produces a press release, “Census Bureau Reports on Residential Vacancies and Home Ownership,” on a quarterly basis. In addition, it places the HVS data on the Internet for users to access. The Internet address for the HVS data is www.census.gov/hhes/www/housing/hvs/hvs.html. Several other government agencies use these data on a continuing basis, for example, the Bureau of Economic Analysis uses the HVS data in calculating consumer expenditures for housing as a component of the gross domestic product; the Department of Housing and Urban Development relies on the HVS data to measure the adequacy of the supply of rental and homeowner units and works with the White House in measuring homeownership for minorities. The National Association of Home Builders, the National Association of Realtors, the Federal National Mortgage Association, the Federal Reserve Board, the Home Loan Mortgage Corporation, and the American Federation of Labor-Congress of Industrial Organizations (AFL-CIO) are among the many users in the private sector who routinely use the HVS data in making policy decisions relating to the housing market. In addition, investment firms use the HVS data to analyze market trends and for economic forecasting.

Affected Public: Individuals or households.

Frequency: Monthly.

Respondent's Obligation: Voluntary.

Legal Authority: Title 13 U.S.C., Section 182.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202) 395-7245 or e-mail (bharrisk@omb.eop.gov).

Dated: May 20, 2008.
Gwellnar Banks,
Management Analyst, Office of the Chief Information Officer.

[FR Doc. E8-11599 Filed 5-23-08; 8:45 am]

BILLING CODE 3510-07-P